DEPARTMENT OF HOMELAND SECURITY

U.S. Customs and Border Protection

Approval of Robinson International USA, Inc., as a Commercial Gauger

AGENCY: U.S. Customs and Border Protection, Department of Homeland Security.

ACTION: Notice of approval of Robinson International USA, Inc., as a commercial gauger.

SUMMARY: Notice is hereby given, pursuant to CBP regulations, that Robinson International USA, Inc. has been approved to gauge petroleum and certain petroleum products for customs purposes for the next three years as of November 26, 2013.

DATES: Effective Dates: The approval of Robinson International USA, Inc., as a commercial gauger became effective on November 26, 2013. The next triennial inspection date will be scheduled for November 2016.

FOR FURTHER INFORMATION CONTACT: Approved Gauger and Accredited Laboratories Manager, Laboratories and Scientific Services Directorate, U.S. Customs and Border Protection, 1331 Pennsylvania Avenue NW., Suite 1500N, Washington, DC 20229, tel. 202-344-1060.

SUPPLEMENTARY INFORMATION: Notice is hereby given pursuant to 19 CFR 151.13, that Robinson International USA, Inc., 4400 South Wayside Drive, Suite #106, Houston, TX 77207, has been approved to gauge petroleum and certain petroleum products for customs purposes, in accordance with the provisions of 19 CFR 151.13. Robinson International USA, Inc. is approved for the following gauging procedures for petroleum and certain petroleum products per the American Petroleum Institute (API) Measurement Standards:

API Chapters | Title
3 | Tank gauging.
7 | Temperature determination.
8 | Sampling.
12 | Calculations.
17 | Maritime measurement.

Anyone wishing to employ this entity to conduct gauger services should request and receive written assurances from the entity that it is approved by the U.S. Customs and Border Protection to conduct the specific test or gauger service requested. Alternatively, inquiries regarding the specific test or gauger service this entity is approved to perform may be directed to the U.S. Customs and Border Protection by calling (202) 344-1060. The inquiry may also be sent to cbp.labhq@dhs.gov. Please reference the Web site listed below for a complete listing of CBP approved gaugers and accredited laboratories. http://www.cbp.gov/sites/default/files/documents/gaulist_3.pdf.

Dated: July 24, 2014.
Ira S. Reese,
Executive Director, Laboratories and Scientific Services Directorate.

[FR Doc. 2014-18366 Filed 8-1-14; 8:45 am]

BILLING CODE 9111-14-P